Proclamation 9599 of April 28, 2017

Older Americans Month, 2017

By the President of the United States of America

A Proclamation

Older Americans are our Nation's memory. Some of today's grandparents and great-grandparents were born during the Great Depression, lived through the Second World War, witnessed the rise and fall of Communism, fought in Korea and Vietnam, marched with Martin Luther King, Jr., and watched the first man walk on the Moon. Now, they surf the internet and share family photos on their phones in a world that is richer and freer than the one into which they were born. Listening to the stories of our older citizens allows younger Americans to appreciate the country they inherited and gain the wisdom necessary to make it even better for their children and grandchildren.

As we celebrate Older Americans Month, we take the opportunity to thank our seniors and recognize the enormous contributions they make to the Nation. Indeed, one of modern life's greatest blessings are the medical advancements that make it possible for older people to remain healthy and active well into the later stages of life. We are blessed to have their presence, their love, and their unmatched perspective for our families.

Our elders also have an unprecedented opportunity to make a difference in our communities by sharing their talents, wisdom, and time. America's seniors give back in a myriad of ways, working with children in our schools, providing assistance to the sick and shut-in, and inventing new and innovative products. They have made our Nation stronger through their experience, knowledge, and willingness to share with others.

Finally, during this month we also recognize that, as we age, many of us will need more assistance from our friends and family. We therefore recommit ourselves to ensuring that older Americans are not neglected or abused, receive the best healthcare available, live in suitable homes, have adequate income and economic opportunities, and enjoy freedom and independence in their golden years. They deserve—and we owe them—nothing less.

NOW, THEREFORE, I, DONALD J. TRUMP, President of the United States of America, by virtue of the authority vested in me by the Constitution and the laws of the United States, do hereby proclaim May 2017 as Older Americans Month. I call upon all Americans to honor our elders, acknowledge their contributions, care for those in need, and reaffirm our country's commitment to older Americans this month and throughout the year.

IN WITNESS WHEREOF, I have hereunto set my hand this twenty-eighth day of April, in the year of our Lord two thousand seventeen, and of the Independence of the United States of America the two hundred and forty-first.

[FR Doc. 2017-09077

Filed 5-2-17; 11:15 am]

Billing code 3295-F7-P